DEPARTMENT OF THE INTERIOR

Bureau of Reclamation

Central Valley Project Improvement Act, Criteria for Evaluating Water Management Plans

AGENCY: Bureau of Reclamation, Interior.

ACTION: Notice.

SUMMARY: To meet the requirements of the Central Valley Project Improvement Act (CVPIA) of 1992 and the Reclamation Reform Act of 1982, Reclamation developed and published the Criteria for Evaluating Water Conservation Plans, dated April 30, 1993. In September 1996, Reclamation revised the document and renamed it to Criteria for Evaluating Water Management Plans (Criteria). The Criteria were revised again in 1999.

The Cities of Avenal, Coalinga, and Huron, along with Broadview Water District and West Stanislaus Irrigation District, all have developed Water Management Plans (Plan) which Reclamation has evaluated and preliminarily determined to meet the requirements of the Criteria.

The 1999 Criteria were developed based on information provided during public scoping and review sessions held throughout Reclamation's Mid-Pacific (MP) Region. Reclamation uses these Criteria to evaluate the adequacy of all Plans developed by Central Valley Project contractors. The Criteria were developed and the Plans have been evaluated for the purpose of promoting the most efficient water use reasonably achievable by all MP Region contractors. Reclamation made a commitment (stated within the Criteria) to publish a notice of its draft determination of the adequacy of each contractor's Plan in the Federal Register to allow the public a minimum of 30 days to comment on its preliminary determinations.

DATES: All public comments must be received by December 11, 2000.

ADDRESSES: Our practice is to make comments, including names and home addresses of respondents, available for public review. Individual respondents may request that we withhold their home address from public disclosure, which we will honor to the extent allowable by law. There also may be circumstances in which we would withhold a respondent's identity from public disclosure, as allowable by law. If you wish us to withhold your name and/or address, you must state this prominently at the beginning of your comment. We will make all submissions from organizations or businesses, and from individuals identifying themselves as representatives or officials of organizations or businesses, available for public disclosure in their entirety.

Please mail comments to Lucille Billingsley, Bureau of Reclamation, 2800 Cottage Way, MP-410, Sacramento CA 95825.

FOR FURTHER INFORMATION CONTACT: To be placed on a mailing list for any subsequent information, please contact Lucille Billingsley at the address above, or by telephone at (916) 978-5215 (TDD, 978-5608).

SUPPLEMENTARY INFORMATION: Under provision of Section 3405(e) of the CVPIA (Title 34 Pub. L. 102-575), “The Secretary [of the Interior] shall establish and administer an office on Central Valley Project water conservation best management practices that shall * * * develop criteria for evaluating the adequacy of all water conservation plans developed by project contractors, including those plans required by section 210 of the Reclamation Reform Act of 1982.” Also, according to Section 3405(e)(1), these criteria will be developed “* * * with the purpose of promoting the highest level of water use efficiency reasonably achievable by project contractors using best available cost-effective technology and best management practices.”

The Criteria states that all parties (Contractors) that contract with Reclamation for water supplies (municipal and industrial contracts over 2,000 irrigable acre-feet and agricultural contracts over 2,000 irrigable acres) will prepare Plans which will be evaluated by Reclamation based on the following required information detailed in the sections listed below to develop, implement, monitor, and update their Plans. The sections are:

1. Description of the District.

2. Inventory of Water Resources.

3. Best Management Practices (BMPs) for Agricultural Contractors.

4. BMP's for Urban Contractors.

5. Plan Implementation.

6. Exemption Process.

7. Regional Criteria.

8. Five Year Revisions.

Public comment on Reclamation's preliminary (i.e., draft) determination of the Cities of Avenal, Coalinga, and Huron, along with Broadview Water District and West Stanislaus Irrigation District, are invited at this time. A copy of these Plans will be available for review at Reclamation's MP Regional Office located in Sacramento, California, and MP's South-Central California Area Office located in Fresno, California.

Dated: November 1, 2000.
Charles B. Johnson,
Acting Regional Resources Manager, Mid-Pacific Region.

[FR Doc. 00-28769 Filed 11-8-00; 8:45 am]

BILLING CODE 4310-MN-P